FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 11, 2014.

A. Federal Reserve Bank of Minneapolis (Jacqueline K. Brunmeier, Assistant Vice President) 90 Hennepin Avenue, Minneapolis, Minnesota 55480-0291:

1. Michael R. Heebink, individually and as co-trustee of the Shirley E Heebink Family Trust, and as part of the group acting in concert with the Shirley E Heebink Trust; its co-trustees Shirley E Heebink, and Michael R. Heebink; and Mary Heebink, all of Baldwin, Wisconsin, and the Rasmussen Group, which includes Dane L. Rasmussen, the Debra L Rasmussen Irrevocable Trust Dated December 18, 2012, with Dane L Rasmussen, as trustee; Jack Rasmussen, all of Baldwin, Wisconsin; Emily Shimota, Inver Grove Heights, Minnesota; Sidney Rasmussen, St. Paul, Minnesota; Lynne VanDeelen, Duluth, Minnesota; and Nancy Fox, Maplewood, Minnesota; as a group acting in concert to retain voting shares of Baldwin Bancshares, Inc., and thereby indirectly retain voting shares of First Bank of Baldwin, both in Baldwin, Wisconsin.

Board of Governors of the Federal Reserve System, February 19, 2014.
Michael J. Lewandowski,
Associate Secretary of the Board.

[FR Doc. 2014-03815 Filed 2-21-14; 8:45 am]

BILLING CODE 6210-01-P